DEPARTMENT OF DEFENSE

Office of the Secretary

Notice of Open Meeting

AGENCY: Office of the Assistant Secretary of Defense (Health Affairs); DoD.

SUMMARY: In accordance with section 10(a)(2) of Public Law 92-463, The Federal Advisory Committee Act, announcement is made of the following meeting:

Name of Committee: DoD Task Force on Mental Health, a Subcommittee of the Defense Health Board.

Dates: January 22, 2007 (Morning—Open Session), January 23, 2007 (Afternoon—Open Session).

Times: 0800-1200 hours (22 January) 1500-1700 hours (23 January).

Location: Sheraton Tacoma Hotel, 731320 Broadway Plaza, Tacoma, WA.

Agenda: The purpose of the meeting is to obtain, review, and evaluate information related to the Mental Health Task Force's congressionally-directed task of assessing the efficacy of mental health services provided to members of the Armed Forces by the Department of Defense. The Task Force members will receive briefings on topics related to mental health concerns among military service members and mental health care delivery. The Task Force will hold a “Town Hall Meeting” session to hear concerns from the Fort Lewis, Tacoma, and Seattle metro areas Active Duty Military, National Guard and Reserve, and Veterans communities and conduct executive working sessions.

FOR FURTHER INFORMATION CONTACT: Colonel Roger Gibson, Executive Secretary, Defense Health Board, Skyline One, 5205 Leesburg Pike, Suite 810, Falls Church, VA 22041, (703) 681-3279, ext. 123.

Section 552b(b) of Title 5, U.S.C., specifically subparagraph (1) thereof and Title 5, U.S.C., appendix 1, subsection 10(d). Open sessions of the meeting will be limited by space accommodations. Any interested person may attend, appear before or file statements with the Board at the time and in the manner permitted by the Board.

Dated: January 3, 2007.
C.R. Choate,
Alternate OSD Federal Register Liaison Officer, Department of Defense.

[FR Doc. 07-24 Filed 1-8-07; 8:45 am]

BILLING CODE 5001-06-M